ENVIRONMENTAL PROTECTION AGENCY

[EPA-HQ-OLEM-2021-0608; FRL-9080-01-OLEM]

Hazardous Waste Electronic Manifest System (e-Manifest); Notice of Public Meetings

AGENCY: Environmental Protection Agency (EPA).

ACTION: Notice of virtual public meeting.

SUMMARY: The Environmental Protection Agency (EPA) will host virtual public meetings to discuss how to increase adoption of electronic manifests and solicit feedback from stakeholders. The agenda for both meetings will be identical and all stakeholders are encouraged to attend one of the meetings.

DATES: The meetings will be held on October 27, 2021, and November 3, 2021, from approximately 1:00 p.m.-5:00 p.m. EST. Additional public meetings may be added. Please refer to the e-Manifest website at https://www.epa.gov/e-manifest/electronic-manifest-public-meetings.

ADDRESSES: The public meetings will be conducted virtually. Registration is required to attend and participate during these meetings. EPA can accommodate 100 attendees at each meeting and may hold additional virtual meetings, if needed. Please refer to the e-Manifest website at https://www.epa.gov/e-manifest/electronic-manifest-public-meetings for information on how to register.

Comments. Oral comments will be accepted throughout each of the public meetings. Written comments will be accepted prior to and after the public meetings. Any written comments should be submitted on or before December 30, 2021, and should be submitted in the public docket under docket ID number EPA-HQ-OLEM-2021-0608 by any of the following methods:

• Federal eRulemaking Portal: https://www.regulations.gov/ (our preferred method). Follow the online instructions for submitting comments.

• Mail: U.S. Environmental Protection Agency, EPA Docket Center, Office of Resource Conservation and Recovery, Docket No. EPA-HQ-OLEM-2021-0608, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Comments received may be posted without change to https://www.regulations.gov/ including any personal information provided. For detailed instructions on sending comments and additional information on the rulemaking process, see the “Public Participation” heading of the SUPPLEMENTARY INFORMATION section of this document. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

Special accommodations. For information on access or services for individuals with disabilities, or to request accommodation of a disability, please contact the person listed under FOR FURTHER INFORMATION CONTACT at least ten (10) days prior to the meeting to give the EPA as much time as possible to process your request.

FOR FURTHER INFORMATION CONTACT: Tess Fields, U.S. Environmental Protection Agency, Office of Resource Conservation and Recovery, email: fields.tess@epa.gov, phone (before October 31, 2021): 703-605-0509, phone (after October 31, 2021): 202-566-0328.

SUPPLEMENTARY INFORMATION: These meetings will be open to the public. The full agenda and meeting materials will be available in the docket for the meeting and on the e-Manifest website at https://www.epa.gov/e-manifest/electronic-manifest-public-meetings. The public meetings will be conducted virtually, and registration is required to attend and participate. Registration instructions will be posted on the e-Manifest website at https://www.epa.gov/e-manifest/electronic-manifest-public-meetings. If EPA needs to make subsequent changes to this meeting, EPA will post future notices to its e-Manifest website. EPA strongly encourages the public to refer to the e-Manifest website for the latest meeting information, as sudden changes may be necessary.

I. General Information

A. Does this action apply to me?

This action is directed to the public in general. This action may be of particular interest to persons who are or may be subject to the Hazardous Waste Electronic Manifest Establishment (e-Manifest) Act.

B. Public Participation

You may participate in this meeting by providing public comments via the instructions in this notice. Submit your comments, identified by Docket ID No. EPA-HQ-OLEM-2021-0608, at https://www.regulations.gov (our preferred method), or the other methods identified in the ADDRESSES section. Once submitted, comments cannot be edited or removed from the docket. The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit https://www.epa.gov/dockets/commenting-epa-dockets.

1. Written comments. EPA encourages the electronic submission of written comments into Docket ID No. EPA-HQ-OLEM-2021-0608 at https://www.regulations.gov (our preferred method), or the other methods identified in the ADDRESSES section, on or before December 30, 2021, to provide the e-Manifest program the time necessary to consider and review the written comments.

Due to public health concerns related to COVID-19, the EPA Docket Center and Reading Room are open to the public by appointment only. Our Docket Center staff also continues to provide remote customer service via email, phone, and webform. Hand deliveries or couriers will be received by scheduled appointment only. For further information and updates on EPA Docket Center services, please visit us online at https://www.epa.gov/dockets. The EPA continues to carefully and continuously monitor information from the Centers for Disease Control and Prevention (CDC), local area health departments, and our Federal partners so that we can respond rapidly as conditions change regarding COVID-19.

2. Oral comments. Oral comments will be accepted throughout each of the public meetings.

C. Purpose of the Public Meeting

The EPA will host virtual public meetings to discuss how to increase adoption of electronic manifests and solicit feedback from stakeholders.

EPA launched the e-Manifest system on June 30, 2018. e-Manifest provides those persons required to use a Resource Conservation and Recovery Act (RCRA) manifest under either federal or state law the option of using electronic manifests to track shipments of hazardous waste and to meet certain RCRA requirements. By enabling the transition from a paper-intensive process to an electronic system, EPA estimates e-Manifest will ultimately save state and industry users more than $50 million annually, once electronic manifests are widely adopted.

Since system inception through August 31, 2021, EPA has received roughly eighteen thousand electronic manifests (both fully electronic and hybrid manifests) out of a total of approximately six million manifests. Electronic manifests thus represent less than a half of a percent of manifests received by EPA. EPA seeks to dramatically increase this percentage. In June 2019, EPA consulted the Hazardous Waste Electronic Manifest System Advisory Board (e-Manifest Advisory Board) to better understand the barriers to using electronic manifests and to identify actions the Agency can take to improve implementation.¹ The e-Manifest Advisory Board, in their meeting minutes issued to the Agency on September 23, 2019, identified numerous challenges for generators and transporters in using the current electronic manifest process and made several recommendations to the Agency on overcoming these challenges.²

¹ The Hazardous Waste Electronic Manifest System Advisory Board is established in accordance with the provisions of the Hazardous Waste Electronic Manifest Establishment Act, 42 U.S.C. 6939g, and the Federal Advisory Committee Act (FACA), 5 U.S.C. App. 2.

² Background materials, final meeting minutes, and the Agency response for the June 2019 e-Manifest Advisory Board public meeting can be located at http://www.regulations.gov Docket no. EPA-HQ-OLEM-2019-0194.

In April 2020, EPA consulted the e-Manifest Advisory Board on options for increasing use of electronic manifests, specifically regarding the Agency's proposal to reengineer electronic signatures for generators and transporters. This also included the Agency's proposed position that requirements under EPA's Cross-Media Electronic Reporting Rule (CROMERR) would only apply to electronic signatures for receiving facilities when submitting the final, signed manifest to EPA. Based on the e-Manifest Advisory Board's feedback, the Agency confirmed its position in its response to the e-Manifest Advisory Board issued in October 2020.³ The Agency subsequently implemented a new “Quick Sign” feature in e-Manifest for generators, transporters, and initial electronic signatures by the receiving facility.

³ Background materials, final meeting minutes, and the Agency response for the April 2020 e-Manifest Advisory Board public meeting can be located at http://www.regulations.gov Docket no. EPA-HQ-OLEM-2020-0075.

In its October 2020 response to the e-Manifest Advisory Board, the Agency acknowledged that the new “Quick Sign” feature was not expected to significantly increase adoption of electronic manifests. Therefore, EPA committed to hold additional public meetings with stakeholders to discuss the feasibility of further options for subsequent consultation by the e-Manifest Advisory Board.

Therefore, the purpose of the public meetings announced today is to engage stakeholders in discussion regarding how to increase industry adoption of electronic manifests. The agenda for both meetings will be identical and all stakeholders are encouraged to attend one of the meetings. These meetings are expected to include discussion regarding:

(1) Current electronic manifest functionality and workflow;

(2) Potential option to allow receiving facilities to upload electronic signatures to EPA;

(3) Other potential options, including options that may require policy or regulatory change.

EPA intends to use information obtained from these public meetings to inform future options for consideration by the e-Manifest Advisory Board.

Dated: September 24, 2021.
Elizabeth Shaw,
Acting Director, Office of Resource Conservation and Recovery, Office of Land and Emergency Management.

[FR Doc. 2021-21231 Filed 9-29-21; 8:45 am]

BILLING CODE 6560-50-P